ENVIRONMENTAL PROTECTION AGENCY

40 CFR Part 272

[EPA-R06-RCRA-2013-0461; FRL 9911-75-Region 6]

Oklahoma: Incorporation by Reference of State Hazardous Waste Management Program

AGENCY: Environmental Protection Agency (EPA).

ACTION: Proposed rule.

SUMMARY: The Environmental Protection Agency (EPA) proposes to codify in the regulations entitled “Approved State Hazardous Waste Management Programs”, Oklahoma's authorized hazardous waste program. The EPA will incorporate by reference into the Code of Federal Regulations (CFR) those provisions of the State regulations that are authorized and that the EPA will enforce under the Solid Waste Disposal Act, commonly referred to as the Resource Conversation and Recovery Act (RCRA).

DATES: Send written comments by July 31, 2014.

ADDRESSES: Send written comments to Alima Patterson, Region 6 Regional Authorization Coordinator, or Julia Banks Codification Coordinator, State/Tribal Oversight Section (6PD-O), Multimedia Planning and Permitting Division, EPA Region 6, 1445 Ross Avenue, Dallas, Texas 75202-2733, Phone number: (214) 665-8533 or (214) 665-8178. You may also submit comments electronically or through hand delivery/courier; please follow the detailed instructions in the ADDRESSES section of the immediate final rule which is located in the Rules section of this Federal Register.

FOR FURTHER INFORMATION CONTACT: Alima Patterson, (214) 665-8533.

SUPPLEMENTARY INFORMATION: In the “Rules and Regulations” section of this Federal Register (FR), the EPA is codifying and incorporating by reference the State's hazardous waste program as direct final rule. The EPA did not make a proposal prior to the direct final rule because we believe these actions are not controversial and do not expect comments that oppose them. We have explained the reasons for this codification and incorporation by reference in the preamble to the direct final rule. Therefore, the purpose of this FR document is to codify Oklahoma's base hazardous waste management program and its program revisions through RCRA Cluster XXI (see 78 FR 32161) May 29, 2013. The EPA provided notices and opportunity for comments on the Agency's decisions to authorize the Oklahoma program, and the EPA is not now reopening the decisions, nor requesting comments, on the Oklahoma authorizations as published in the FR notices specified in Section B of the direct final rule FR document.

This document incorporates by reference Oklahoma's hazardous waste statutes and regulations and clarifies which of these provisions are included in the authorized and federally enforceable program. By codifying Oklahoma's authorized program and by amending the Code of Federal Regulations, the public will be more easily able to discern the status of federally approved requirements of the Oklahoma hazardous waste management program.

Dated: May 22, 2014.
Ron Curry,
Regional Administrator, EPA Region 6.

[FR Doc. 2014-15268 Filed 6-30-14; 8:45 am]

BILLING CODE 6560-50-P